DEPARTMENT OF ENERGY

Federal Energy Regulatory Commission

Combined Notice of Filings

Take notice that the Commission has received the following Natural Gas Pipeline Rate and Refund Report filings:

Filings Instituting Proceedings

Docket Numbers: RP13-336-000.

Applicants: Questar Pipeline Company.

Description: Notice of Commencement of Service to be effective N/A.

Filed Date: 2/7/13.

Accession Number: 20130207-5058.

Comments Due: 5 p.m. ET 2/19/13.

Docket Numbers: RP13-547-000.

Applicants: Dauphin Island Gathering Partners.

Description: Negotiated Rates 2013-02-08 to be effective 2/8/2013.

Filed Date: 2/7/13.

Accession Number: 20130207-5047.

Comments Due: 5 p.m. ET 2/19/13.

Docket Numbers: RP13-548-000.

Applicants: Iroquois Gas Transmission System, L.P.

Description: Iroquois Gas Transmission System, L.P. submits tariff filing per 154.204: 02/07/13 Negotiated Rates—Sequent Energy Management (HUB)—3075-89 to be effective 2/6/2013.

Filed Date: 2/7/13.

Accession Number: 20130207-5130.

Comments Due: 5 p.m. ET 2/19/13.

Docket Numbers: RP11-1711-000.

Applicants: Texas Gas Transmission, LLC.

Description: Texas Gas Transmission, LLC submits tariff filing per 154.501: 2012 Cashout Report Filing to be effective N/A.

Filed Date: 2/8/13.

Accession Number: 20130208-5037.

Comments Due: 5 p.m. ET 2/20/13.

Docket Numbers: RP13-550-000.

Applicants: White River Hub, LLC.

Description: White River Hub, LLC submits tariff filing per 154.204: Sec. 12.5 Imbalance Payback Option to be effective 3/11/2013.

Filed Date: 2/8/13.

Accession Number: 20130208-5043.

Comments Due: 5 p.m. ET 2/20/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-130-004.

Applicants: Paiute Pipeline Company.

Description: Fourth Revised Volume No. 1-A to be effective 5/3/2012.

Filed Date: 2/7/13.

Accession Number: 20130207-5057.

Comments Due: 5 p.m. ET 2/19/13.

Docket Numbers: RP13-365-003.

Applicants: TC Offshore LLC.

Description: TC Offshore LLC submits tariff filing per 154.203: Compliance to RP13-365-000 to be effective 12/3/2012.

Filed Date: 2/7/13.

Accession Number: 20130207-5131.

Comments Due: 5 p.m. ET 2/19/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 8, 2013.
Nathaniel J. Davis, Sr.,
Deputy Secretary.

[FR Doc. 2013-03429 Filed 2-13-13; 8:45 am]

BILLING CODE 6717-01-P